DEPARTMENT OF COMMERCE

[I.D. 072601B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Sea Grant Program Application Requirements for Grants, for John A. Knauss Marine Policy Fellowships, and for Designation as a Sea Grant College or Regional Consortia.

Form Number(s): NOAA Forms 90-1, 90-2, and 90-4.

OMB Approval Number: 0648-0362.

Type of Request: Regular submission.

Burden Hours: 580.

Number of Respondents: 91.

Average Hours Per Response: 30 minutes for a NOAA Form 90-1, 20 minutes for a NOAA Form 90-2, 15 minutes for a NOAA Form 90-4, 20 hours for an application for designation as a Sea Grant College or Regional Consortia, and 2 hours for an application for a Dean John A. Knauss Marine Policy Fellowship.

Needs and Uses: Applications are required for designation of an institution of higher education as a Sea Grant College, and for the designation of regional consortia, institutes, laboratories, or state and local agencies as Sea Grant Programs. Applications are also required in order to be awarded a Dean John. A. Knauss Fellowship for Marine Policy. Grant monies are available for funding activities that help to attain the objectives of the Sea Grant Program. In addition to the SF-424 and other standard grant application requirements, three additional forms are required with a grant application. These are the Sea Grant Control Form, the Project Record Form, and the Sea Grant Budget Form (used in place of the SF-424a or 424c).

Affected Public: State, local, or tribal government; not-for-profit institutions.

Frequency: On occasion, annual.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 25, 2001.
Madeleine Clayton,
Departmental Paperwork Clearance Officer, Office of the Chief Information Officer.

[FR Doc. 01-19218 Filed 8-1-01; 8:45 am]

BILLING CODE 3510-KA-S